DEPARTMENT OF TRANSPORTATION

Surface Transportation Board

[STB Finance Docket No. 34404]

East Tennessee Railway, L.P.—Lease and Operation Exemption—CSX Transportation, Inc.

East Tennessee Railway, L.P. (ETRY), a Class III rail carrier, has filed a verified notice of exemption under 49 CFR 1150.41 et seq. to lease, from CSX Transportation, Inc. (CSXT), and operate 5.0 miles of track, which includes 4.05 miles of rail line and two short spurs, known as Johnson City Lead and Carnegie Spur, in Washington County, TN. The line extends from milepost ZJ 0.05 to milepost ZJ 4.10 near Johnson City. The two spurs extend west from the line in Johnson City and to the south of the city.¹

¹ ETRY and CSXT have agreed on the terms of the lease that will cover this transaction, and expect to execute a written lease agreement prior to consummation of the acquisition.

ETRY certifies that its projected revenues as a result of this transaction will not exceed $5 million, and thus that the transaction will not result in the creation of a Class II or Class I rail carrier. ETRY intends to consummate the transaction as soon as possible after September 5, 2003, the effective date of the exemption.

If the verified notice contains false or misleading information, the exemption is void ab initio. Petitions to revoke the exemption under 49 U.S.C. 10502(d) may be filed at any time. The filing of a petition to revoke will not automatically stay the transaction.

An original and 10 copies of all pleadings, referring to STB Finance Docket No. 34404, must be filed with the Surface Transportation Board, 1925 K Street, NW., Washington, DC 20423-0001. In addition, a copy of each pleading must be served on Donald G. Avery, Slover & Loftus, 1224 17th St., NW., Washington, DC 20036.

Board decisions and notices are available on our Web site at http://www.stb.dot.gov.

Decided: September 22, 2003.
By the Board, David M. Konschnik, Director, Office of Proceedings.
Vernon A. Williams,
Secretary.

[FR Doc. 03-24389 Filed 9-25-03; 8:45 am]

BILLING CODE 4915-00-P